DEPARTMENT OF AGRICULTURE

Forest Service

Umatilla National Forest, Pomeroy Ranger District; Washington; Sunrise Vegetation and Fuels Management Project

AGENCY: Forest Service, USDA.

ACTION: Notice of intent to prepare an environmental impact statement.

SUMMARY: Umatilla National Forest, Pomeroy Ranger District will be preparing an Environmental Impact Statement to analyze vegetation management and fuels treatment actions within the Asotin watershed in Garfield and Asotin Counties, Washington. The purpose of the project is to move species composition, structural characteristics, density, and fuel loading of the project area closer to ranges of desired conditions described in the Umatilla Land and Resource Management Plan.

DATES: Comments concerning the scope of the analysis must be received by December 29, 2014. The draft environmental impact statement is expected November 2015 and final environmental impact statement is expected March 2016.

ADDRESSES: Send written comments to Monte Fujishin, Pomeroy District Ranger, 71 West Main, Pomeroy, WA 99347. Comments may also be sent via email to comments-pacificnorthwest-umatilla-pomeroy@fs.fed.us, or via facsimile to (509) 843-4621.

FOR FURTHER INFORMATION CONTACT: Brad Cooper, Environmental Coordinator; Pomeroy Ranger District, 71 West Main, Pomeroy, WA 99347; email: bradleylcooper@fs.fed.us; phone: (509) 843-4626.

Individuals who use telecommunication devices for the deaf (TDD) may call the Federal Information Relay Service (FIRS) at 1-800-877-8339 between 8 a.m. and 8 p.m., Eastern Time, Monday through Friday.

As they are developed, additional information and maps will be posted to the “Projects” page on the Forest Web site: http://www.fs.usda.gov/projects/umatilla/landmanagement/projects.

SUPPLEMENTARY INFORMATION: Sunrise project planning area has been substantially affected by processes of forest growth and succession in combination with forest management practices, resulting in the fuels and forest vegetation now present. Recent analysis suggests that patterns of forest structures, species cover types, density classes, and fuel loadings within the planning area are likely inconsistent with desired conditions (or ranges of conditions) described in the Umatilla National Forest Land and Resources Management Plan (Forest Plan), Eastside Screens amendment, and other related technical guidance.

Purpose and Need for Action

The need for action in Sunrise project planning area arises from the differences between existing and desired forest conditions, and the purpose of the project is to move species composition, structural characteristics, density, and fuel loading of the project area closer to ranges of desired conditions described in the Umatilla Forest Plan, plan amendments, and related guidance. The purpose and need for this project is responsive to and consistent with the following Forest Plan goals (FP pages 4-1 to 4-3):

• To provide land and resource management that achieves a more healthy and productive forest and assists in supplying lands, resources, uses, and values which meet local, regional, and national social and economic needs.

• To provide for production and sustained yield of wood fiber and insofar as possible meet projected production levels consistent with various resource objectives, standards and guidelines, and cost efficiency.

• To protect forest and range resources and values from unacceptable losses due to destructive forest pests through the practice of integrated pest management.

Proposed Action

In response to the purpose and need identified above, Umatilla National Forest, Pomeroy Ranger District proposes vegetation and fuels management treatments to improve the health and vigor of upland forest stands, and to reduce susceptibility to future wildland fires of uncharacteristic intensity by reducing hazardous and ladder fuels in Sunrise project planning area. Fuels treatments would be used to reduce existing uncharacteristic fuel loads of dead and live natural fuels, reduce fuels generated from harvest activities, prepare sites for regeneration, and maintain desired fuel conditions. One of the objectives of these fuel treatments is to break-up fuel continuity on the landscape, so that if a wildfire did occur, it could be safely and effectively contained.

Vegetation and fuels treatments are anticipated to take place beginning in calendar year 2016 and could continue over a period of approximately five to ten years. Following are brief descriptions of activities proposed for implementation, along with associated activities that would occur concurrently.

Timber harvest and other tree-cutting activities—The project would include mechanical tree-cutting activities across approximately 8,200 acres. Free thinning would be the primary silvicultural activity in some areas (approximately 6,200 acres). In other areas where thinning treatments alone would not meet landscape vegetation and fuels-related objectives, regeneration harvests and tree planting would occur (up to approximately 2,000 acres). Treatments will be designed to promote under-represented, early-seral tree species such as ponderosa pine and western larch. Harvest methods would include a combination of conventional ground based logging systems, and skyline systems. Activity units could include the removal of sawlogs, small diameter trees (generally less than 7.0 inches diameter at breast height (DBH)) and/or excess down wood for use as woody biomass products. Tree-cutting objectives and activities would vary depending on existing forest vegetation and fuels conditions. Although wood fiber utilization is expected in some areas, the focus of each treatment will be based on the desired conditions of each activity area and designed to move vegetative conditions towards those desired conditions.

Fuels treatments (activity related and natural)—The proposed action will include ongoing maintenance of desirable vegetation characteristics in previously treated areas and, when necessary, reduction of surface and ladder fuels, stand density, and canopy biomass to emulate fire intensities, and associated fire severities, associated with a particular Fire Regime. Prescribed fire entry will be utilized to rehabilitate decadent grass and shrub to improve wildlife forage in big game winter range and bighorn sheep habitat, dispose of activity fuels created by harvest, and as site preparation for planting. Treatment objectives would be achieved through a combination of the following activities such as whole-tree yarding, prescribed burning in harvest units (approximately 2,300 acres), grapple piling of activity fuels (approximately 600 acres).

Landscape prescribed fire—Landscape prescribed fire would occur across approximately 11,500 acres within the Sunrise project area. This treatment would reintroduce fire to a fire-dependent ecosystem to lessen the impact of a future uncharacteristic wildfire and improve forage quality for big game (Management area direction for C3, C3A, C4, and C8). In the majority of the project area, fire intensities would be kept low by keeping fire out of the overstory and burning mainly surface fuels. Consistent with the mixed-severity fire regimes which have long characterized some parts of the project area, individual tree and group torching would likely occur in areas where there is sufficient ladder fuels and in timber stands with high occurrences of mistletoe. Upon completion the landscape could be described as a mosaic of unburned, lightly burned, moderately burned, and intensely burned patches.

Road management—To accomplish implementation of proposed activities approximately 39 miles of open system roads, about 42 miles of closed system roads, and 46 miles of seasonally open roads would be used as haul routes. Closed system roads used for project activities would not be opened to the public. All system roads would remain the same after project implementation; open roads would remain opened, closed roads would continue to be closed, and seasonally open roads would continue with that designation. Approximately 11 miles of temporary road would be constructed of which 9 miles would be constructed over previous road templates. All temporary roads would be decommissioned after project activity use. No new specified road construction is proposed.

Danger tree removal—Danger trees would be felled and removed along all previously described haul routes used for timber sale activity. If considered economically feasible they would be sold as part of a timber sale. Danger trees within Riparian Habitat Conservation Areas (RHCAs) would not be removed; they would be cut and left to provide additional coarse woody debris.

Responsible Official

Monte Fujishin, District Ranger of Pomeroy Ranger District will be the responsible official for making the decision and providing direction for the analysis.

Nature of Decision To Be Made

The responsible official will decide whether or not to implement the proposed action or an alternative to the proposed action, including the no action, and what monitoring will be appropriate.

Scoping Process

This notice of intent initiates the scoping process, which guides the development of the environmental impact statement. A scoping letter will be sent to interested and/or affected members of the public, non-profit organizations, and other agencies.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: November 19, 2014.
Monte Fujishin,
Pomeroy District Ranger.

[FR Doc. 2014-28069 Filed 11-26-14; 8:45 am]

BILLING CODE 3410-11-P